DEPARTMENT OF HOMELAND SECURITY

Coast Guard

33 CFR Part 100

[Docket No. USCG-2022-0136]

Special Local Regulation; Annual Boyne Thunder Poker Run, Charlevoix, MI

AGENCY: Coast Guard, Department of Homeland Security (DHS).

ACTION: Notification of enforcement of regulation.

SUMMARY: The Coast Guard will enforce the Annual Boyne Thunder Poker Run special local regulation on Round Lake and Pine River Channel, Charlevoix, MI on July 9, 2022. This action is necessary and intended to protect the safety of life and property on navigable waters prior to, during, and immediately after this event. During the enforcement period, entry into, transiting, or anchoring within the safety zone are prohibited unless authorized by the Captain of the Port Sault Sainte Marie or a designated representative.

DATES: The regulations in 33 CFR 100.929 will be enforced from 8 a.m. through 5 p.m. on July 9, 2022.

FOR FURTHER INFORMATION CONTACT: If you have questions about this notice of enforcement, call or email LT Deaven Palenzuela, Chief of Waterways Management Division, U.S. Coast Guard; telephone 906-635-3223, email ssmprevention@uscg.mil.

SUPPLEMENTARY INFORMATION: The Coast Guard will enforce the special local regulation in 33 CFR 100.929 for the Annual Boyne Thunder Poker Run in Boyne City, MI from 8 a.m. to 5 p.m. on July 9, 2022. This action is being taken to protect the safety of life and property on navigable waters prior to, during, and immediately after the event. Our regulation for marine events within the Ninth Coast Guard District, 33 CFR 100.929, specifies the location of the regulated area for the Annual Boyne Thunder Poker Run in Round Lake and Pine River Channel, Charlevoix, MI. During the enforcement period, no vessel may transit this regulated area without approval from the Captain of the Port Sault Sainte Marie or a designated representative. Vessels and persons granted permission to enter the special local regulated area shall obey all lawful orders or directions of the Captain of the Port Sault Sainte Marie, or an on-scene representative. The Coast Guard may be assisted by other Federal, State, or local law enforcement agencies in enforcing this regulation.

In addition to this notice of enforcement in the Federal Register, the Coast Guard plans to provide notification of this enforcement period via the Local Notice to Mariners and/or marine information broadcasts.

Dated: March 3, 2022.
A.R. Jones,
Captain, U.S. Coast Guard, Captain of the Port Sault Sainte Marie.

[FR Doc. 2022-04949 Filed 3-8-22; 8:45 am]

BILLING CODE 9110-04-P